DEPARTMENT OF COMMERCE

National Oceanic and Atmospheric Administration

RIN 0648-XD52

Atlantic Highly Migratory Species; Exempted Fishing, Scientific Research, Display, and Chartering Permits; Letters of Acknowledgment

AGENCY: National Marine Fisheries Service (NMFS), National Oceanic and Atmospheric Administration (NOAA), Commerce.

ACTION: Notice of intent; request for comments.

SUMMARY: NMFS announces its intent to issue Exempted Fishing Permits (EFPs), Scientific Research Permits (SRPs), Display Permits, Letters of Acknowledgment (LOAs), and Chartering Permits for the collection of Atlantic Highly Migratory Species (HMS) in 2008. In general, EFPs and related permits would authorize collections of a limited number of tunas, swordfish, billfishes, and sharks from Federal waters in the Atlantic Ocean, Caribbean Sea, and Gulf of Mexico for the purposes of scientific data collection, public display, and chartering. Generally, these permits will be valid from the date of issuance through December 31, 2008, unless otherwise specified, subject to the terms and conditions of individual permits.

DATES: Written comments on these activities received in response to this notice will be considered by NMFS when issuing EFPs and related permits and must be received on or before December 10, 2007.

ADDRESSES: Comments may be submitted by any of the following methods:

• Email: HMSEFP.2008@noaa.gov. Include in the subject line the following identifier: 0648-XD52

• Mail: Margo Schulze-Haugen, Chief, Highly Migratory Species Management Division (F/SF1), NMFS, 1315 East-West Highway, Silver Spring, MD 20910.

• Fax: (301) 713-1917.

FOR FURTHER INFORMATION CONTACT: Michael Clark, phone: (301) 713-2347, fax: (301) 713-1917 or Jackie Wilson, phone: (240) 338-3936.

SUPPLEMENTARY INFORMATION: Issuance of EFPs and related permits are necessary for the collection of HMS for public display and scientific research because regulations (e.g., seasons, prohibited species, authorized gear, and minimum sizes) may prohibit the collection of live animals or biological samples for these purposes. Collection for scientific research and display represents a small portion of the overall fishing mortality for HMS and this mortality will be counted against the quota of the species harvested, as appropriate. The terms and conditions of individual permits are unique; however, all permits will include reporting requirements, limit the number and species of HMS to be collected, and only authorize collection in Federal waters of the Atlantic Ocean, Gulf of Mexico, and Caribbean Sea.

EFPs and related permits are issued under the authority of the Magnuson-Stevens Fishery Conservation and Management Reauthorization Act (Magnuson-Stevens RA) (16 U.S.C. 1801 et seq.) and/or the Atlantic Tunas Convention Act (ATCA) (16 U.S.C. 971 et seq.). Regulations at 50 CFR 600.745 and 50 CFR 635.32 govern scientific research activity, exempted fishing, chartering arrangements, and exempted educational activities with respect to Atlantic HMS. Since the Magnuson-Stevens Act does not consider scientific research to be “fishing”, scientific research is exempt from this statute, and NMFS does not issue EFPs for bona fide research activities (e.g., research conducted from a research vessel and not a commercial or recreational fishing vessel) involving species that are only regulated under the Magnuson-Stevens Act (e.g., sharks) and not under ATCA. NMFS requests copies of scientific research plans for these activities and indicates concurrence by issuing an LOA to researchers to indicate that the proposed activity meets the definition of research and is therefore exempt from regulation.

Scientific research is not exempt under ATCA. NMFS issues SRPs for collection of species managed under this statute (e.g., tunas, swordfish, and billfish), which authorize researchers to collect HMS from bona fide research vessels. EFPs are issued to researchers collecting ATCA-managed species and conducting research from commercial or recreational fishing vessels. NMFS regulations concerning the implantation or attachment of archival tags in Atlantic HMS require scientists to report their activities associated with implantation of these tags.

NMFS seeks public comment on its intent to issue EFPs for the purpose of collecting biological samples under at-sea fisheries observer programs. NMFS intends to issue EFPs to any NMFS employee or NMFS-approved contractor/observer to bring onboard and possess (for scientific research purposes, biological sampling, measurement, etc.) Atlantic tuna, swordfish, shark, or billfish provided the fish is a tagged and recaptured fish, dead prior to being brought onboard, and specifically authorized for sampling by the Director of NMFS' Office of Sustainable Fisheries at the request of the Southeast or Northeast Fisheries Science Center. On average, several hundred swordfish, tunas, and sharks are collected by at-sea observers under such EFPs in any given year. Issuing these permits allows observers to utilize fish for scientific information that would have been discarded dead anyway. In 2006 and 2007, NMFS issued three exempted fishing permits per year authorizing observers to collect HMS while observing commercial fishing activities.

NMFS is seeking public comment on its intent to issue Display Permits for the collection of sharks and other HMS for public display in 2008. Collection of sharks and other HMS sought for public display in aquariums often involves collection when the commercial fishing seasons are closed, collection of prohibited species, and collection of fish below the minimum size for recreational permit holders. NMFS established a 60-metric ton (mt) whole weight (ww) (approximately 3,000 sharks) quota for the public display and research of sharks (combined) in the final Fishery Management Plan (FMP) for Atlantic Tunas, Swordfish, and Sharks (1999 FMP). This quota has been analyzed in conjunction with other sources of mortality, and NMFS has determined that harvesting this amount for public display will not have a significant impact on the stock. Additionally, the number of sharks actually harvested for display and research has remained under the annual 60 mt quota every year since inception of the quota. For instance, in 2006, approximately 18 percent of sharks authorized for public display were actually collected. Only two, non-shark HMS were collected under display permits in 2006. A proposed rule (72 FR 41392, July 27, 2007) accompanying the draft Amendment 2 to the Consolidated HMS FMP is re-evaluating this display and scientific research quota for sharks in light of the results of recent stock assessments. Specifically, the rule proposes that collections of sandbar sharks and dusky sharks collected under the auspices of EFPs and Display Permits be more restricted than in the past given the results of recent shark stock assessments. The rule does not propose modifying the overall 60 mt ww quota.

NMFS may also consider applications for bycatch reduction research in closed regions of the Atlantic Ocean, Gulf of Mexico, and Caribbean Sea to test gear modifications and fishing techniques aimed to avoid incidental capture of non-target species. These permits may require further National Environmental Policy Act (NEPA) analyses. NMFS will seek additional public comment on these applications, as necessary, unless the research is being conducted from bona fide scientific research vessels.

Comments are also requested on the issuance of Chartering Permits to vessels fishing for HMS while operating under chartering arrangements within the EEZ of other nations. Chartering Permits allow a U.S. fishing vessel to fish in a manner consistent with another country's regulations without violating U.S. regulations and ensure that such vessels report to the proper authorities, consistent with International Commission for the Conservation of Atlantic Tunas (ICCAT) recommendations. To date, NMFS has only issued one Chartering Permit for a pelagic longline vessel (2004). The Agency received an application for a chartering permit to allow a U.S. HMS permit holder to charter a Canadian flagged vessel that would fish in conformity with U.S. pelagic longline regulations yet attribute associated landings to quotas of the United States. The application was denied because it did not conform with domestic law that prohibits foreign vessels from fishing or landing HMS within the U.S. Exclusive Economic Zone or the ICCAT recommendation (02-21) that authorizes Chartering Permits.

In 2007, NMFS issued an exempted fishing permit to collect Atlantic bluefin tuna from a commercial fishing vessel in international waters (the central north Atlantic Ocean, including the Northeast Distant gear restricted area). This research is important to improving the understanding of the distribution of bluefin tuna during times they are not traditionally fished and to improve the knowledge of bluefin tuna stock mixing, migration, and life history patterns based on microconstituent analysis and biological sampling. NMFS seeks public comment on issuing permits authorizing similar activities in 2008.

The current preferred alternative in the proposed rule accompanying the draft Amendment 2 to the Consolidated HMS FMP would establish a shark research fishery. As proposed, a limited number of vessels (e.g. 5-10) with directed or incidental shark permits would be issued shark research permits and could participate in a small research fishery for sandbar sharks that would harvest the proposed commercial sandbar quota (116.6 metric tons dressed weight). These vessels would also be able to harvest, and sell, other authorized species of sharks subject to the terms and conditions of individual permits. If this measure is finalized, NMFS would publish a notice at that time outlining the research objectives for the fishery and seeking applications for the following fishing year.

The authorized number of species for 2007, as well as the number of specimens collected in 2006, are summarized in Table 1. The number of specimens collected in 2007 will be available when 2007 interim and annual reports are submitted to NMFS. In 2006, the number of specimens collected was less than the number of authorized specimens for all permit types. In all cases, mortality associated with an EFP, SRP, Display, or LOA (except for larvae) is counted against the appropriate quota. A total of 44 EFPs and related permits were issued by NMFS in 2006 for the collection of HMS. As of October, there have been 38 permits issued in 2007.

Table 1. Summary of HMS Exempted Permits Issued in 2006 and 2007. AHMS@ refers to multiple species being collected under a given permit type.
| 2006: Number of Permits Issued | 2006: Number of Authorized Fish | 2006: Number of Authorized Larvae | 2006: Number of Fish Taken | 2006: Number of Larvae Taken | 2007: Number of Permits Issued | 2007: Number of Authorized Fish | 2007: Number of Authorized Larvae
EFP |  |  |  |  |  |  |  |
HMS | 4 | 1,120 | 0 | 126 | 0 | 9 | 875 | 0
Shark | 7 | 605 | 0 | 219 | 0 | 4 | 224 | 0
Tuna | 10 | 590 | 0 | 71 | 0 | 4 | 275 | 0
Billfish | 3 | 179 | 0 | 57 | 0 | 2 | 73 | 1,000
SRP |  |  |  |  |  |  |  |
HMS | 4 | 485 | 1,200 | 2 | 0 | 1 | 18 | 0
Shark | 2 | 400 | 0 | 284 | 0 | 2 | 670 | 0
Billfish | 1 | 0 | 500 | 0 | 0 | 0 | 0 | 0
Tuna | 0 | 0 | 0 | 0 | 0 | 1 | 12 | 0
Display |  |  |  |  |  |  |  |
HMS | 1 | 89 | 0 | 2 | 0 | 2 | 90 | 0
Shark | 7 | 505 | 0 | 89 | 0 | 6 | 266 | 0
Total | 39 | 3,973 | 1,700 | 850 | 0 | 31 | 2,503 | 1,000
LOA* |  |  |  |  |  |  |  |
Shark | 5 | 2,853 | 0 | 1,021 | 0 | 7 | 3,120 | 0
*LOAs are issued for bonafide scientific research activities involved non-ATCA managed species (i.e., sharks). Collections made under an LOAs are not authorized; rather this estimated harvest for research is acknowledged by NMFS. Permitees are encouraged to report all fishing activities in a timely manner.

Final decisions on the issuance of any EFPs, SRPs, Display, and Chartering Permits will depend on the submission of all required information about the proposed activities, NMFS' review of public comments received on this notice, an applicant's reporting history on past permits issued, past law enforcement violations, consistency with relevant NEPA documents, and any consultations with appropriate Regional Fishery Management Councils, states, or Federal agencies. NMFS does not anticipate any significant environmental impacts from the issuance of these EFPs as assessed in the 1999 FMP.

Authority: 16 U.S.C. 971 et seq. and 16 U.S.C. 1801 et seq.

Dated: November 1, 2007.
Emily H. Menashes,
Acting Director, Office of Sustainable Fisheries, National Marine Fisheries Service.

[FR Doc. E7-22071 Filed 11-8-07; 8:45 am]

BILLING CODE 3510-22-S